DEPARTMENT OF HOMELAND SECURITY

Coast Guard

33 CFR Part 117

[Docket No. USCG-2012-0525]

Drawbridge Operation Regulation; Lake Washington, Seattle, WA

AGENCY: Coast Guard, DHS.

ACTION: Notice of temporary deviation from regulations.

SUMMARY: The Coast Guard has issued a temporary deviation from the operating schedule that governs the State Route 520 (SR 520) Bridge across Lake Washington at Seattle, WA. This deviation is necessary to accommodate the running of the Seafair Rock and Roll Marathon. This deviation allows the bridge to remain in the closed position to allow safe movement of event participants.

DATES: This deviation is effective from 10 a.m. on June 23, 2012 through 4 p.m. June 23, 2012.

ADDRESSES: Documents mentioned in this preamble as being available in the docket are part of docket USCG-2012-0525 and are available online by going to http://www.regulations.gov, inserting USCG-2012-0525 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone 206-220-7282 email randall.d.overton@uscg.mil. If you have questions on viewing the docket, call Renee V. Wright, Program Manager, Docket Operations, telephone 202-366-9826.

SUPPLEMENTARY INFORMATION: The Washington State Department of Transportation has requested that the draw span of the SR 520 Bridge remain closed to vessel traffic to facilitate safe passage of participants of the Seafair Rock and Roll Marathon. The Rock and Roll Marathon is the largest distance running event in the Pacific Northwest. This event includes over 26,000 participants running a marathon (26.2 miles) or half marathon (13.1 miles). The race course passes over the SR 520 Lake Washington Bridge. The SR 520 Bridge provides three navigational openings for vessel passage, the movable floating span, subject to this closure, and two fixed navigational openings; one on the east end of the bridge and one on the west end. The fixed navigational opening on the east end of the bridge provides a horizontal clearance of 207 feet and a vertical clearance of 57 feet. The opening on the west end of the bridge provides a horizontal clearance of 206 feet and a vertical clearance of 44 feet. Vessels that are able to safely pass through the fixed navigational openings are allowed to do so during this closure period. Under normal conditions, during this time frame, the bridge operates in accordance with 33 CFR 117.1049(a) which states the bridge shall open on signal if at least two hours notice is given. This deviation period is from 10 a.m. on June 23, 2012 through 4 p.m. June 23, 2012. The deviation allows the floating draw span of the SR 520 Lake Washington Bridge to remain in the closed position and need not open for maritime traffic from 10 a.m. through 4 p.m. on June 23, 2012. The bridge shall operate in accordance to 33 CFR § 117.1049(a) at all other times. Waterway usage on the Lake Washington Ship ranges from commercial tug and barge to small pleasure craft. Mariners will be notified and kept informed of the bridge's operational status via the Coast Guard Notice to Mariners publication and Broadcast Notice to Mariners as appropriate. The draw span will be required to open, if needed, for vessels engaged in emergency response operations during this closure period.

In accordance with 33 CFR 117.35(e), the drawbridge must return to its regular operating schedule immediately at the end of the designated time period. This deviation from the operating regulations is authorized under 33 CFR 117.35.

Dated: June 8, 2012.
Randall D. Overton,
Bridge Administrator.

[FR Doc. 2012-15191 Filed 6-20-12; 8:45 am]

BILLING CODE 9110-04-P